DEPARTMENT OF COMMERCE

National Oceanic and Atmospheric Administration

[I.D. 061200B]

Southeast Region Logbook Family of Forms

AGENCY: National Oceanic and Atmospheric Administration (NOAA).

ACTION: Proposed collection; Comment Request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 14, 2000.

ADDRESSES: Direct all written comments to Linda Engelmeier, Departmental Forms Clearance Officer, Department of Commerce, Room 6066, 14th and Constitution Avenue NW, Washington DC 20230 (or via Internet at lengelme@doc.gov).

FOR FURTHER INFORMATION CONTACT: Requests for additional information or copies of the information collection instrument(s) and instructions should be directed to Robert Sadler, Southeast Regional Office, 9721 Executive Center Drive, St. Petersburg, Florida 33702 (727-570-5326).

SUPPLEMENTARY INFORMATION:

I. Abstract

Logbooks are required from selected Federally-managed fisheries in the Southeast Region of the U.S. The catch and effort data from the logbooks are used in stock assessments and for impact analyses of proposed or existing management regulations. Notification is required prior to the harvest of live rock coral for enforcement purposes.

II. Method of Collection

Logbooks are in paper form. Notifications are by phone.

III. Data

OMB Number: 0648-0016.

Form Number: NOAA Form 88-186.

Type of Review: Regular submission.

Affected Public: Business and other for-profit organizations.

Estimated Number of Respondents: 4,000.

Estimated Time Per Response: 10 minutes per day for logbooks in the golden crab, mackerel, and wreckfish fisheries when fish were caught; 20 minutes per day for logbooks from vessels fishing in Columbia waters; 2 minutes for negative logbook reports in all fisheries listed above; 12 minutes per day for logbooks from headboats; 15 minutes per day for logbooks for live rock; and 2 minutes for notifications prior to harvest of live rock.

Estimated Total Annual Burden Hours: 13,100.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 8, 2000.
Madeleine Clayton,
Management Analyst, Office of Chief Information Officer.

[FR Doc. 00-15178 Filed 6-14-00; 8:45 am]

BILLING CODE 3510-22-F